DEPARTMENT OF ENERGY

International Energy Agency Meetings

AGENCY: Department of Energy.

ACTION: Notice of meetings.

SUMMARY: A meeting involving members of the Industry Advisory Board (IAB) to the International Energy Agency (IEA) will take place on June 23-25, 2008, at the headquarters of the IEA in Paris, France, in connection with the IEA's Emergency Disruption Simulation Exercise (ERE4); and on June 25, 2008, a meeting of the IAB will be held in connection with a meeting of the IEA's Standing Group on Emergency Questions (SEQ).

DATES: June 23-25, 2008.

ADDRESSES: 9, rue de la Fédération, Paris, France.

FOR FURTHER INFORMATION CONTACT: Diana D. Clark, Assistant General for International and National Security Programs, Department of Energy, 1000 Independence Avenue, SW., Washington, DC 20585, 202-586-3417.

SUPPLEMENTARY INFORMATION: In accordance with section 252(c)(1)(A)(i) of the Energy Policy and Conservation Act (42 U.S.C. 6272(c)(1)(A)(i)) (EPCA), the following notice of meetings is provided:

A meeting involving members of the Industry Advisory Board (IAB) to the International Energy Agency (IEA) in connection with Emergency Response Exercise 4 (ERE4) will be held at the headquarters of the IEA, 9, rue de la Fédération, Paris, France on June 23-25, 2008. The ERE4 sessions will be held from 2 p.m.-5:30 p.m. on June 23, from 9 a.m.-6 p.m. on June 24, and from 9:30 a.m.-3 p.m. on June 25. In addition, after the session on June 23, the IEA intends to brief traders and media representatives on their anticipated roles in the ERE4 exercise, and an additional meeting of the IAB will be held from 8:30 a.m. to 9:15 a.m. on June 25. The purpose of ERE4 is to train IEA Government delegates in the use of IEA emergency response procedures by reacting to a hypothetical oil supply disruption scenario. The purpose of the IAB meeting is to collect participants' feedback on the progress of ERE4.

The agenda for the IAB meeting is to collect the reactions and assessments of IAB participants in ERE4 for communication to the IEA and to review the agenda of the June 25, 2008, meeting of the IEA's Standing Group on Emergency Questions (SEQ).

The agenda for ERE4 is under the control of the IEA. It is expected that the IEA will adopt the following agenda:

I. Training Session on IEA Emergency Response Measures for New SEQ Participants and Selected IEA Non-Member Countries (June 23, 2008, 2 p.m.-5:30 p.m.)

1. Welcome Address by the IEA Deputy Executive Director.

2. Introduction by the SEQ Chairman.

3. Introduction to IEA Emergency Response Policies and Objectives.

4. How the Global Oil Market Works.

5. Natural Gas Market.

6. IEA Energy Statistics and Oil Data Systems.

7. The Media's Perspective.

8. Introduction to the Oil Disruption Simulation Exercise.

II. Emergency Disruption Response Exercise 4 (ERE4) (June 24, 2008, 9 a.m.-6 p.m., and Continuing June 25, 9:30 a.m.-3 p.m.)

June 24, morning:

1. Welcome, Introductions, and Explanations of the Exercise.

2. Scenario 1: Explanation, Presentation, Break-Out Sessions.

June 24, afternoon:

3. Plenary Discussion of Scenario 1.

4. Scenario 2: Presentation and Break-Out Sessions.

5. Plenary Discussion of Scenario 2.

June 25, morning:

6. Scenario 3: Presentation and Break-Out Sessions.

June 25, afternoon:

7. Plenary Discussion of Scenario 3.

8. Wrap-up and Concluding Remarks.

A meeting of the IAB to the IEA will be held at the headquarters of the IEA commencing at 3:30 p.m. on June 25, 2008. The purpose of this notice is to permit attendance by representatives of U.S. company members of the IAB at a meeting of the IEA's Standing Group on Emergency Questions (SEQ) on June 25 at the same location and time.

The agenda of the SEQ meeting is under the control of the SEQ. It is expected that the SEQ will adopt the following agenda:

1. Adoption of the Agenda.

2. Approval of the Summary Record of the 122nd Meeting.

3. Status of Compliance with IEP Stockholding Commitments.

4. Committee Observers from IEA Non-Member Countries.

5. Emergency Response Exercise 4:

—Initial Response Plan and Proposed Country Shares.

—Participation of Non-Member Country Delegates in ERE4.

6. Emergency Response Review Program:

—Draft Questionnaire.

—ERR Schedule.

7. Policy and Other Developments in Member Countries:

—Accession of Poland to the IEA.

8. The SEQ Program of Work for 2009-2010.

9. Documents for Information:

—Monthly Oil Statistics: March 2008.

—Emergency Reserve Situation of IEA Member Countries on April 1, 2008.

—Emergency Reserve Situation of IEA Candidate Countries on April 1, 2008.

—Base Period Final Consumption: 2Q 2007-1Q 2008.

—Update of Emergency Contacts List.

10. Other Business:

—Tentative Schedule of Meetings:

—September 17-18, 2008.

—November 18-20, 2008.

—March 24-26, 2009.

As provided in section 252(c)(1)(A)(ii) of the Energy Policy and Conservation Act (42 U.S.C. 6272(c)(1)(A)(ii)), the meetings of the IAB are open to representatives of members of the IAB and their counsel; representatives of members of the IEA's Standing Group on Emergency Questions; representatives of the Departments of Energy, Justice, and State, the Federal Trade Commission, the General Accounting Office, Committees of Congress, the IEA, and the European Commission; and invitees of the IAB, the SEQ, or the IEA.

Issued in Washington, DC, June 10, 2008.
Diana D. Clark,
Assistant General Counsel for International and National Security Programs.

[FR Doc. E8-13452 Filed 6-13-08; 8:45 am]

BILLING CODE 6450-01-P